DEPARTMENT OF THE INTERIOR

Bureau of Land Management

[NM 020-5410-G-509; NMNM 103815]

Conveyance of Mineral Interest in New Mexico

AGENCY: Bureau of Land Management, Interior.

ACTION: Notice of segregation.

SUMMARY: The mineral interests owned by the United States in the land described in this notice, containing approximately 10.00 acres, are segregated and made unavailable for filings under the general mining laws and the mineral leasing laws to determine the suitability for conveyance of the reserved mineral interests pursuant to section 209 of the Federal Land Policy and Management Act of October 21, 1976. The mineral interests may be conveyed in whole or in part upon favorable mineral examination. The purpose is to allow consolidation of surface and subsurface of minerals ownership where there are no known mineral values or in those instances where the reservation interferes with or precludes appropriate non-mineral development and such development is a more beneficial use of the land than the mineral development.

FOR FURTHER INFORMATION CONTACT: Hal Knox, Realty Specialist, Taos Field Office. Located in the New Mexico State Office, 1474 Rodeo Road, Santa Fe, New Mexico 87505, 505-438-7402.

New Mexico Principal Meridian, New Mexico

T. 15 N., R. 11 E.,

Sec. 7, SE¼SE¼SW¼.

Minerals Reservation—All Minerals

SUPPLEMENTARY INFORMATION: Upon publication of this Notice of Segregation in the Federal Register as provided in 43 CFR 2720.1-1(b), the mineral interests owned by the United States in the private land covered by the application shall be segregated to the extent that they will not be subject to appropriation under the mining and mineral leasing laws. The segregative effect of the application shall terminate upon: issuance of a patent or deed to such mineral interest; upon final rejection of the application; or two years from the date of publication of this notice, whichever occurs first.

Dated: June 21, 2004.
Sam DesGeorges,
Acting Field Office Manager.

[FR Doc. 04-14942 Filed 6-30-04; 8:45 am]

BILLING CODE 4310-FB-P